NUCLEAR REGULATORY COMMISSION

[NRC-2017-0056]

Emergency Planning for Research and Test Reactors and Other Non-Power Production and Utilization Facilities

AGENCY: Nuclear Regulatory Commission.

ACTION: Regulatory guide, issuance.

SUMMARY: The U.S. Nuclear Regulatory Commission (NRC) is issuing revision 2 of Regulatory Guide (RG) 2.6, “Emergency Planning for Research and Test Reactors and Other Non-Power Production and Utilization Facilities.” This RG provides licensees and applicants with a method the NRC staff considers acceptable for use in complying with the regulations on the content of emergency plans for research and test reactors and other non-power production and utilization facilities.

DATES: Revision 2 of RG 2.6 is available on September 27, 2017.

ADDRESSES: Please refer to Docket ID NRC-2017-0056 when contacting the NRC about the availability of information regarding this document. You may obtain publicly-available information related to this document using any of the following methods:

• Federal Rulemaking Web site: Go to http://www.regulations.gov and search for Docket ID NRC-2017-0056. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. Revision 2 of RG 2.6 and the regulatory analysis may be found in ADAMS under Accession numbers ML17263A472 and ML16035A477 respectively.

• NRC's PDR: You may examine and purchase copies of public documents at the NRC's PDR, Room O1-F21, One White Flint North, 11555 Rockville Pike, Rockville, Maryland 20852.

Regulatory guides are not copyrighted, and the NRC's approval is not required to reproduce them.

FOR FURTHER INFORMATION CONTACT: Geoffrey Wertz, Office of Nuclear Reactor Regulation, telephone: 301-415-0893, email: Geoffery.Wertz@nrc.gov; or Stanley Gardocki, Office of Nuclear Regulatory Research, telephone: 301-415-1067, email: Stanley.Gardocki@nrc.gov. Both are staff of the U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 2 of RG 2.6 was issued with a temporary designation of Draft Regulatory Guide, DG-2004. The purpose of issuing this RG is to provide licensees and applicants with a method that the staff of the NRC considers acceptable for use in complying with the regulations on the content of emergency plans for research and test reactors and other non-power production and utilization facilities licensed under part 50 of title 10 of the Code of Federal Regulations (10 CFR), “Domestic Licensing of Production and Utilization Facilities.”

II. Additional Information

The NRC published a notice of the availability of DG-2004 in the Federal Register on February 24, 2017, (82 FR 11660) for a 60-day public comment period. The public comment period closed on April 25, 2017. The NRC received one public comment on DG-2004. That comment and the NRC's response to it are available in ADAMS under Accession No. ML17137A099.

Revision 2 of RG 2.6 addresses new issues identified since the guide was last revised in March 1983. This revision endorses the latest version of a consensus standard developed by the American National Standards Institute (ANSI) and American Nuclear Society (ANS), ANSI/ANS-15.16-2015, “Emergency Planning for Research Reactors.” The NRC also expanded the scope of the guide to address non-power facilities under 10 CFR part 50, other than research and test reactors. Other changes to RG 2.6 include editorial changes and the current program guidance for RGs.

Revising this regulatory guide to adopt, in whole or in part, a consensus standard is consistent with the NRC policy of evaluating the latest versions of national consensus standards to determine their suitability for endorsement by regulatory guides. This approach also complies with the NRC's Management Directive 6.5, “NRC Participation in the Development and Use of Consensus Standards” (ADAMS Accession No. ML16193A497), and is in accordance with Public Law 104-113, “National Technology Transfer and Advancement Act of 1995.”

Copies of ANSI/ANS-15.16-2015 may be purchased from the ANS Web site (http://www.new.ans.org/store/); or by writing to: American Nuclear Society, 555 North Kensington Avenue, La Grange Park, Illinois 60526, U.S.A., telephone: 1-800-323-3044.

III. Congressional Review Act

This regulatory guide is a rule as defined in the Congressional Review Act (5 U.S.C. 801-808). However, the Office of Management and Budget has not found it to be a major rule as defined in the Congressional Review Act.

IV. Backfitting

The regulatory positions in this guidance document demonstrate the method that the NRC staff finds acceptable for an applicant or holder of a license under 10 CFR part 50 for a research and test reactor and other non-power production or utilization facility to meet the requirements of the underlying NRC regulations. The issuance of this RG is not backfitting, as that term is defined in 10 CFR 50.109, “Backfitting,” because non-power facilities licensed under 10 CFR part 50 are not included within the scope of entities protected by 10 CFR 50.109.

Dated at Rockville, Maryland, this 21st day of September 2017.
For the Nuclear Regulatory Commission.
Thomas H. Boyce,
Chief, Regulatory Guidance and Generic Issues Branch, Division of Engineering, Office of Nuclear Regulatory Research.

[FR Doc. 2017-20693 Filed 9-26-17; 8:45 am]

BILLING CODE 7590-01-P